DEPARTMENT OF THE INTERIOR

National Park Service

[NPS-WASO-NRNHL-24080; PPWOCRADI0, PCU00RP14.R50000]

National Register of Historic Places; Notification of Pending Nominations and Related Actions

AGENCY: National Park Service, Interior.

ACTION: Notice.

SUMMARY: The National Park Service is soliciting comments on the significance of properties nominated before August 26, 2017, for listing or related actions in the National Register of Historic Places.

DATES: Comments should be submitted by October 4, 2017.

ADDRESSES: Comments may be sent via U.S. Postal Service and all other carriers to the National Register of Historic Places, National Park Service, 1849 C St. NW., MS 7228, Washington, DC 20240.

SUPPLEMENTARY INFORMATION: The properties listed in this notice are being considered for listing or related actions in the National Register of Historic Places. Nominations for their consideration were received by the National Park Service before August 26, 2017. Pursuant to section 60.13 of 36 CFR part 60, written comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State Historic Preservation Officers:

ALASKA

Matanuska-Susitna Borough

Old Willow Community Center, W. Willow Community Center Cir., Willow, SG100001695

IOWA

Buchanan County

Pleasant Grove Presbyterian Church, 601 State St., Chatham, SG100001697

Linn County

First Church of Christ, Scientist, 1246 2nd Ave. SE., Cedar Rapids, SG100001698

Polk County

Bryn Mawr Apartments, 511 29th St., Des Moines, SG100001699

East Des Moines Industrial Historic District

Roughly E. 2nd to E. 5th & E. Walnut to E. Market Sts., Des Moines, SG100001700

KANSAS

Cowley County

Bryant School (Public Schools of Kansas MPS), 1011 Mansfield St., Winfield, MP100001701

Jefferson County

Maplecroft Farmstead (Agriculture-Related Resources of Kansas MPS), 2957 KOA Rd., Grantville vicinity, MP100001702

Riley County

Landmark Water Tower, Sunset Ave. & Leavenworth St., Manhattan, SG100001704

Russell County

Deeble Rock Garden, 126 Fairview Ave., Lucas, SG100001705

Sedgwick County

Cowie, E.S., Electric Company Buildings, 222, 226, 230, 232 S. Topeka St., Wichita, SG100001706

Shawnee County

Crawford, Nelson Antrim, House, 2202 SW. 17th St., Topeka, SG100001707

Topeka Cemetery Historic District (Boundary Increase), 1601 E. 10th St., Topeka, BC100001708

Sherman County

United Telephone Building, 1003 Main St., Goodland, SG100001709

LOUISIANA

Iberia Parish

Downtown New Iberia Commercial Historic District, Roughly bounded by Fulton, W. Main, Burke, Weeks, E. St. Peter, W. St. Peter & Jefferson Sts., New Iberia, SG100001710

Orleans Parish

Texaco Service Station, 3060 St. Claude Ave., New Orleans, SG100001711

St. John the Baptist Parish

Woodland Plantation, 1128 LA 628, LaPlace, SG100001712

St. Mary Parish

Franklin Foundation Hospital, 1501 Hospital Ave., Franklin, SG100001713

West Feliciana Parish

Como Plantation 5000 Como Rd., Weyanoke vicinity, SG100001714

NEW MEXICO

Cibola County

Charley's Automotive Service, 1310 W. Santa Fe Ave., Grants, SG100001715

Curry County

Lincoln Jackson School, 206 Alphon St. Clovis, SG100001716

SOUTH CAROLINA

Anderson County

Pelzer Manufacturing Company and Mill Village Historic District, Portions of Lebby, Reed, Courtney, Smythe, & Anderson Sts., Pelzer, SG100001718

Chester County

Mount Dearborn Military Reservation, Address Restricted, Great Falls vicinity, SG100001719

Hampton County

Gifford Rosenwald School 6146 Columbia Hwy., Gifford, SG100001720

TEXAS

Bell County

Stagecoach Inn (Boundary Increase) (Salado MRA), 401 S. Stagecoach Rd. Salado, BC100001721

Kendall County

Voelcker—Sueltenfuss House, 82 Swede Springs Rd., Boerne, SG100001722

WASHINGTON

Pierce County

College Park Historic District, Roughly bounded by N. Union Ave., N. Pine, N. 21st, N. Alder, N. 8th & N. 18th Sts., Tacoma, SG100001723

WISCONSIN

Milwaukee County

Saint Anthony Hospital, 1004 N. 10th St., Milwaukee, SG100001724

Additional documentation has been received for the following resource:

KANSAS

Leavenworth County

Leavenworth Downtown Historic District, Roughly Cherokee St., Delaware St., S. Fifth St., and Shawnee, St. Leavenworth, AD02000389

Nominations submitted by Federal Preservation Officers:

The State Historic Preservation Officer reviewed the following nominations and responded to the Federal Preservation Officer within 45 days of receipt of the nominations and supports listing the properties in the National Register of Historic Places.

COLORADO

Denver County

Denver—Colorado Springs—Pueblo Motor Way Company Inc. Garages, 2106 California & 2101 Welton Sts., Denver, SG100001696

OREGON

Crook County

Central Oregon Canal—Brasada Ranch Segment Historic District (Carey and Reclamation Acts Irrigation Projects in Oregon, 1901-1978 MPS), 16986 SW. Brasada Ranch Rd., Powell Butte vicinity, MP100001717

Authority: 60.13 of 36 CFR part 60.

Dated: August 29, 2017.
J. Paul Loether,
Chief, National Register of Historic Places/National Historic Landmarks Program Keeper, National Register of Historic Places.

[FR Doc. 2017-19843 Filed 9-18-17; 8:45 am]

BILLING CODE 4312-52-P